DEPARTMENT OF THE TREASURY

Submission for OMB Review; Comment Request

November 21, 2014.

The Department of the Treasury will submit the following information collection requests to the Office of Management and Budget (OMB) for review and clearance in accordance with the Paperwork Reduction Act of 1995, Public Law 104-13, on or after the date of publication of this notice.

DATES: Comments should be received on or before December 26, 2014 to be assured of consideration.

ADDRESSES: Send comments regarding the burden estimates, or any other aspect of the information collections, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8141, Washington, DC 20220, or email at PRA@treasury.gov.

FOR FURTHER INFORMATION CONTACT: Copies of the submissions may be obtained by emailing PRA@treasury.gov, calling (202) 622-1295, or viewing the entire information collection request at www.reginfo.gov.

Internal Revenue Service (IRS)

OMB Number: 1545-0119.

Type of Review: Revision of a currently approved collection.

Title: Distributions From Pensions, Annuities, Retirement or Profit-Sharing Plans, IRAs, Insurance Contracts, etc.

Form: Form 1099-R.

Abstract: Form 1099-R is used to report distributions from pensions, annuities, profit-sharing or retirement plans, IRAs, and the surrender of insurance contracts. This information is used by IRS to verify that income has been properly reported by the recipient.

Affected Public: Businesses or other for-profits.

Estimated Annual Burden Hours: 37,519,860.

OMB Number: 1545-1921.

Type of Review: Extension without change of a currently approved collection.

Title: Form 12114—Continuation Sheet for Item #16 (Additional Information) OF-306, Declaration for Federal Employment.

Form: Form 12114.

Abstract: Form 12114 is used as a continuation to Optional Form 306 (OF-306), Declaration for Federal Employment, to provide space for capturing additional information to item #16.

Affected Public: Individuals or households.

Estimated Annual Burden Hours: 6,203.

Brenda Simms,
Treasury PRA Clearance Officer.

[FR Doc. 2014-28040 Filed 11-25-14; 8:45 am]

BILLING CODE 4830-01-P